DEPARTMENT OF AGRICULTURE

Agricultural Marketing Service

[Docket No. DA-00-05]

United States Standards for Grades of Swiss Cheese, Emmentaler Cheese; Correction

AGENCY: Agricultural Marketing Service, USDA.

ACTION: Notice; Correction.

SUMMARY: The Agricultural Marketing Service (AMS) published in the Federal Register of July 20, 2000 (65 FR 45018) a document (DA-00-05) soliciting comments on a proposal to change the United States Standards for Grades of Swiss Cheese, Emmentaler Cheese. Several errors appeared in the document. The Internet address for AMS' Dairy Programs Home Page was incorrectly listed; a typographical error appears in proposed text for the eye size requirements of Grade B Swiss cheese; the discussion of proposed changes to flavor defect allowances in Grade C Swiss cheese references an incorrect table; and the proposed definition text and discussion of the “small eyed” defect was incomplete. This document corrects these errors.

DATES: August 14, 2000.

FOR FURTHER INFORMATION CONTACT: Duane R. Spomer, Chief, Dairy Standardization Branch, AMS/USDA/Dairy Programs, Room 2746-South, P.O. Box 96456, Washington, DC 20090-6456; telephone (202) 720-7473; fax (202) 720-2643; email Duane.Spomer@usda.gov

SUPPLEMENTARY INFORMATION:

Background

The Department of Agriculture (Department) published a Notice (DA-00-05) in the Federal Register of July 20, 2000 (65 FR 45018). The Notice (issued on July 12, 2000) solicited comments on a proposal to change the United States Standards for Swiss Cheese, Emmentaler Cheese. AMS is proposing changes that would: (1) increase the allowable eye size in Grade A Swiss cheese and define an allowable eye size range for Grade B Swiss cheese; (2) remove the maximum size recommendation for cheeses produced in rindless blocks; (3) add more clarity to the color requirements for Grades A and B Swiss cheese; (4) correct minor errors that currently exist in the tables; and (5) make minor editorial changes that will make the standard more uniform in appearance and easier to use. These changes are being proposed to strengthen the standard by providing Swiss cheese characteristics that incorporate changes in consumer preferences and facilitate the use of automated portioning and packaging equipment. Editorial changes were also proposed to provide consistency with other dairy product standards. This Correction Notice is necessary in order to correct several minor errors which appeared in the original publication. The due date for comments on the proposed changes (September 18, 2000) is unchanged.

Correction

This Federal Register Notice makes corrections to the Notice published on July 20, 2000 (65 FR 45018). The Department makes the following corrections:

(1) In the first column, under “Addresses” (FR page 45019), the last paragraph, which begins, “The current United States Standards, along with * * *”, change “www.ams.usda.gov/dairystand.htm” to “www.ams.usda.gov/dairy/stand.htm”.

(2) In the text of (b)(3) Eyes and Texture (FR page 45022), second column, under “proposed”, change “11/16” to “13/16”.

(3) In the text of (c)(1) Flavor (FR page 45023), third column, under “discussion,” change “Table III” to “Table I”.

(4) In the text for (h)(4) small eyed (FR page 45029), second column, under “proposed,” change “11/16” to “⅜”. In the third column of that page, the “discussion” of the proposed text is revised to read “We propose this change to reflect the proposed lower eye size limit and for editorial clarity of the standard.”

Authority: (7 U.S.C. 1621-1627).

Dated: August 8, 2000.
Kathleen A. Merrigan,
Administrator, Agricultural Marketing Service.

[FR Doc. 00-20491 Filed 8-11-00; 8:45 am]

BILLING CODE 3410-02-P